ENVIRONMENTAL PROTECTION AGENCY

[ER-FRL-6670-01]

Environmental Impacts Statements; Notice of Availability

Responsible Agency: Office of Federal Activities, General Information (202) 564-7167 or http://www.epa.gov/compliance/nepa/.

Weekly receipt of Environmental Impact Statements

Filed November 28, 2005 Through December 2, 2005

Pursuant to 40 CFR 1506.9.

EIS No. 20050501, Draft EIS, NRS, AR, Walnut Bayou Irrigation Project, Natural Resource Plan for the Little Red River Watershed, Little River County, AR, Comment Period Ends: January 23, 2006, Contact: Kalven L. Trice 501-301-3100.

EIS No. 20050502, Final EIS, AFS, MT, Fishtrap Project, Proposed Timber Harvest, Prescribed Burning, Road Construction and Other Restoration Activities, Lolo National Forest, Plains/Thompson Falls Ranger District, Sanders County, MT, Wait Period Ends: January 9, 2006, Contact: Randy Hojem 406-826-4308.

EIS No. 20050503, Draft EIS, GSA, WA, Peace Arch Port of Entry Redevelopment Project, Improvements to Security, Safety and Functionality, Canadian Border in Blaine, Whatcom County, WA, Comment Period Ends: January 23, 2006, Contact: Michael Levine 253-931-7263.

EIS No. 20050504, Draft Supplement, COE, MO, St. Johns Bayou and New Madrid Floodway Project, Channel Enlargement and Improvement, Revised Information to Clarify and Address Issues of Concern, Flood Control National Economic Development (NED), New Madrid, Mississippi and Scott Counties, MO, Comment Period Ends: January 23, 2006, Contact: Danny Ward 901-544-0709.

EIS No. 20050505, Final EIS, AFS, 00, Caribou Travel Plan Revision, Determine the Motorized Road and Trail System, Implementation, Caribou-Targhee National Forest, Westside, Soda Spring and Montpeller Ranger Districts, Bannock, Bear River, Bonneville, Caribou, Franklin, Oneida and Power Counties, ID; Box Elder and Cache Counties, UT and Lincoln County, WY, Wait Period Ends: January 9, 2006, Contact: Deb Tiller 208-557-5779.

EIS No. 20050506, Final EIS, NOA, 00, Pacific Coast Groundfish Fishery Management Plan, To Conserve and Enhance Essential Fish Habitat (EFH) Designation and Minimization of Advise Impacts, Coast Exclusive Economic Zone, WA, OR and CA, Wait Period Ends: January 9, 2006, Contact: Dr. Robert Lohn 206-526-6150.

EIS No. 20050507, Draft EIS, BLM, NV, Sheep Complex, Big Springs and Owyhee Grazing Allotments Sensitive Bird Species Project, Determine Impacts of Livestock Grazing, Elko County, NV, Comment Period Ends: January 23, 2006, Contact: Lorrie West 775-753-0200.

EIS No. 20050508, Final EIS, NPS, IN, Lincoln Boyhood National Memorial General Management Plan, Implementation, Lincoln City Spencer County, IN, Wait Period Ends: January 9, 2006, Contact: Nick Chevance 402-661-1844.

EIS No. 20050509, Final Supplement, COE, FL, Central and Southern Florida Project, Tamiami Trail Modifications, Modified Water Deliveries to Everglades National Park, Authorized Flow of Water from WCA-38 and the L-29 Canal North of the Tamiami Trail, Dade County, FL, Wait Period Ends: January 9, 2006, Contact: Dr. Jonathan Moulding 904-232-2286.

EIS No. 20050510, Draft EIS, FHW, 00, I-81 Corridor Improvement Study in Virginia , Transportation Improvements from the Tennessee Border to the West Virginia Border, (Tier 1), Several Counties, VA and WV, Comment Period Ends: February 17, 2006, Contact: John Simkins 804-775-3342.

EIS No. 20050511, Draft EIS, DOE, PA, Gilberton Coal-to-Clean Fuels and Power Project, Construction and Operation a New Demonstration Plant, Schuylkill County, PA, Comment Period Ends: February 8, 2006, Contact: Janice L. Bell 1-866-576-8240.

EIS No. 20050512, Final EIS, NPS, DC, Rock Creek Park and the Rock Creek and Potomac Parkway Project, General Management Plan, Implementation, Washington, DC, Wait Period Ends: January 9, 2006, Contact: Patrick Gregerson 202-619-7277.

EIS No. 20050513, Final EIS, AFS, AR, Ozark-St. Francis National Forests Proposed Revised Land and Resource Management Plan, Implementation, Several Counties, AR, Wait Period Ends: January 9, 2006, Contact: Gary Knudsen 479-964-7200.

EIS No. 20050514, Final EIS, NIH, ME, National Emerging Infectious Laboratories, Selected the Preferred Alternative, Construction of National Biocontainment Laboratory, BioSquare Research Park, Boston University Medical Center Campus, Boston, MA, Wait Period Ends: January 9, 2006, Contact: Valerie Nottingham 301-496-7775.

Amended Notices

EIS No. 20050469, Draft EIS, NOA, 00, Programmatic—Towards an Ecosystem Approach for the Western Pacific Region: From Species Based Fishery Management Plans to Place-Based Fishery Ecosystem Plans, Realignment, Implementation, Western Pacific Region (America Samoa, Guam, Hawaii, Commonwealth of the Northern Mariana Islands), and U.S. Pacific Remote Island Areas, Comment Period Ends: December 27, 2005, Contact: William L. Robinson 808-944-2200.

Revision of FR Notice Published November 10, 2005: Correction to Comment Period from December 26, 2005 to December 27, 2005. Also, this document is available on the Internet at: http://swr.nmfs.noaa.gov/pir.

Dated: December 6, 2005.
Robert W. Hargrove,
Director, NEPA Compliance Division, Office of Federal Activities.

[FR Doc. E5-7120 Filed 12-8-05; 8:45 am]

BILLING CODE 6560-50-P